OVERSEAS PRIVATE INVESTMENT CORPORATION

Sunshine Act Meeting Notice

TIME AND DATE: Wednesday, March 20, 2019, 2 p.m. (OPEN Portion) 2:15 p.m. (CLOSED Portion)

PLACE: Offices of the Corporation, Twelfth Floor Board Room, 1100 New York Avenue, NW, Washington, DC

STATUS: Meeting OPEN to the Public from 2 p.m. to 2:15 p.m. Closed portion will commence at 2:15 p.m. (approx.)

MATTERS TO BE CONSIDERED:

1. President's Report

2. Tribute—Ray W. Washburne

3. Tribure—James Demers

4. Minutes of the Open Session of the December 13, 2018, Board of Directors Meeting

FURTHER MATTERS TO BE CONSIDERED (Closed to the Public 2:15 p.m.):

1. Finance Project—Colombia

2. Finance Project—El Salvador

3. Finance Project—Latin America

4. Finance Project—Southeast Asia

5. Finance Project—Global

6. Minutes of the Closed Session of the December 13, 2018, Board of Directors Meeting

7. Reports

8. Pending Projects

CONTACT PERSON FOR MORE INFORMATION: Information on the meeting may be obtained from Catherine F.I. Andrade at (202) 336-8768, or via email at Catherine.Andrade@opic.gov.

Dated: February 26, 2019.
Catherine Andrade,
Corporate Secretary, Overseas Private Investment Corporation.

[FR Doc. 2019-03640 Filed 2-26-19; 11:15 am]

BILLING CODE 3210-01-P